DEPARTMENT OF AGRICULTURE

Forest Service

Southwestern Region, Arizona, New Mexico, West Texas and Oklahoma: Proposed Surface Management of Natural Gas Resource Development on Jicarilla Ranger District, Carson National Forest, Rio Arriba County, NM; Additional Filings

AGENCY: Forest Service, USDA.

ACTION: Notice; correction.

SUMMARY: The USDA Forest Service published a notice of intent (69 FR 59881-59883, October 6, 2004) to prepare an environmental impact statement (EIS) for a proposed forest plan amendment for surface management of gas leasing and development on the Jicarilla Ranger District, Carson National Forest. In addition, the proposal includes a leasing analysis for unleased acres on the Jicarilla Ranger District.

The Environmental Protection Agency (EPA) published a notice of availability (NOA) for the draft EIS in the Federal Register on February 16, 2007 (72 FR 54900). The end of the comment period presented in the NOA was incorrect and subsequently rectified in an amended notice (72 FR 9521, March 2, 2007).

A corrected notice of intent was published in the Federal Register on May 15, 2007 (72 FR 27282) changing the estimated filing date for the final EIS from early summer 2005 to fall 2007.

Revised Dates: This notice changes the estimated filing date for the final EIS from fall 2007 to mid-late summer September 2008. When completed, EPA will publish a NOA of the final EIS in the Federal Register.

Corrected Unleased Acres: The draft EIS included a leasing analysis for approximately 3,800 unleased acres on the Jicarilla Ranger District. This notice corrects the number of unleased acres analyzed in the final EIS to approximately 5,000 acres.

Change in Responsible Official: In addition, this notice changes the official responsible for the EIS and subsequent record of decision from Forest Supervisor Martin D. Chavez, Jr. to Acting Forest Supervisor Erin Connelly, Carson National Forest.

FOR FURTHER INFORMATION CONTACT: Audrey Kuykendall, Forest Environmental Coordinator, Carson National Forest, at (575) 758-6212.

Dated: June 30, 2008.
Erin Connelly,
Acting Forest Supervisor, Carson National Forest.

[FR Doc. E8-15463 Filed 7-7-08; 8:45 am]

BILLING CODE 3410-11-P